ENVIRONMENTAL PROTECTION AGENCY

[ER-FRL-6627-8]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167.

An explanation of the ratings assigned to draft environmental impact statements (EISs) was published in FR dated May 18, 2001 (66 FR 27647).

Draft EISs

ERP No. D-AFS-F65030-IL Rating LO, Natural Area Trails Project, Construction, Reconstruction, Maintenance and Designation of Trails for Hikers and Equestrian Use, Approval of Site-Specific Mitigation and/or Monitoring Standards, Shawnee National Forest, Jackson, Pope, Johnson, Union, Hardin and Saline Counties, IL.

Summary: EPA has no objections to the proposed repair, relocation and establishment of trails which are intended to reduce erosion and exotic plant introductions, and provide quality recreational experiences for equestrian users and hikers.

ERP No. D-BLM-K09807-NV Rating LO, Table Mountain Wind Generating Facility Project, Construction of a 150 to 205 Megawatt (MW) Wind Powered Electric Generation Facility and Ancillary Facilities, Right-of-Way Grant, Spring Mountain Range between the Communities of Goodsprings, Sandy Valley, Jean and Primm, Clark County, NV.

Summary: EPA expressed a lack of objections with the DEIS, supported the mitigation measures presented and commended BLM for its role in developing renewable energy sources.

ERP No. D-COE-E39056-FL Rating EC2, Lake Tohopekaliga Extreme Drawdown and Habitat Enhancement Project, Fish and Wildlife Habitat Improvements, Construction, Operation and Maintenance, Osceola County, FL.

Summary: EPA requested additional information about the effects of each alternative, and expressed environmental concerns over the impacts of converting littoral wetland habitat into muck disposal islands.

ERP No. D-NOA-K91010-00 Rating EC2, US West Coast Fisheries for Highly Migratory Species Fishery Management Plan (FMP), Approval and Implementation, Ocean Waters off the States of Washington, Oregon and California a portion of the Exclusive Economic Zone (EEZ), WA, OR and CA.

Summary: The DEIS is progressive in its management of the highly migratory species fishery. However, EPA expressed environmental concern on the lack of information on bycatch in the fishery, benefits of particular mesh sizes for the drift gillnet fishery, Endangered Species Act coordination, and research actions to address information gaps.

ERP No. DB-COE-H36012-MO Rating EU2, St. Johns Bayou and New Madrid Floodway Project, Channel Enlargement and Improvement, Revised Information to Formulate and Analyze Additional Alternatives, Flood Control and National Economic Development (NED), New Madrid, Mississippi and Scott Counties, MO.

Summary: EPA rated the Authorized Project (alternative 2) as “environmentally unsatisfactory-insufficient information” (EU2) on the basis of significant loss of wetlands, uncertainty of achieving compensable mitigation, and an incomplete Clean Water Act Section 404(b)(1) evaluation. Alternative 3-2 was also rated EU-2 (same basis). Alternative 3-3 was rated “environmental objections-insufficient information” (EO-2) as this alternative reduces impacts to a contiguous tract of bottomland hardwood wetlands, and reduces the mitigation burden.

ERP No. DR-COE-H34028-00 Rating EU2, Missouri River Master Water Control Manual Review and Update, Mainstem Reservoir System, New and Updated Information, Missouri River Basin, SD, NE, IA and MO.

Summary: The Missouri River Master Manual RDEIS has no preferred alternative; thus, all alternatives were rated. The CWCP and MCP alternatives were rated “environmentally unsatisfactory—insufficient information” (EU-2), based on their environmental impacts which increase environmental degradation. Alternatives GP 1521, GP 1528, GP 2021 and GP 2028 were rated “environmental concerns” (EC-2). EPA also stated that a better discussion of a monitoring plan, and more specific discussion of how adaptive management will be implemented, should be included in the Final EIS.

ERP No. DS-FRC-L05053-WA Rating LO, Condit Hydroelectric (No. 2342) Project, Updated Information on an Application to Amend the Current License to Extend the License Term to October 1, 2006, White Salmon River, Skamania and Klickitat Counties, WA.

Summary: EPA believes that the overall environmental benefits that would be achieved by removing the dam at the end of the license term outweigh the loss of the relatively modest amount of power that the project contributes to the Western Systems Coordinating Council region of the North American Electric Reliability Council. EPA supports the selection of the Settlement Agreement alternative including recommended modifications.

Final EISs

ERP No. F-AFS-J08025-CO Nucla-Telluride Transmission Line Project, Permit Approval and Funding for Construction and Operation of a 115 kV Transmission Line between the Nucla Substation in Montrose County and either the Telluride or Sunshine Substations in San Miguel County, CO.

Summary:EPA expressed environmental concerns about a lack of quantitative analysis of the acreage of wetland and aquatic resource impacts. The level of these impacts was not clearly differentiated among the various alternatives.

ERP No. F-AFS-J65339-UT Solitude Mountain Resort Master Development Plan (MDP), Implementation, Special-Use-Permit and US Army COE Section 404 Permit Issuance, Wasatch-Cache National Forest, Salt Lake County, UT.

Summary: EPA expressed environmental concerns with water withdrawal for snowmaking associated with this project due to the potential for adverse impacts to aquatic life in Big Cottonwood Creek.

ERP No. F-AFS-L65315-ID West Fork Potlatch Timber Harvesting, Road Construction, Reforestation and Watershed Restoration, Palouse Ranger District, Clearwater National Forest, Latah County, ID

Summary: The final EIS adequately discloses the impacts and satisfactorily responded to most of EPA's comments on the draft EIS. The project is intended to benefit the landscape and EPA has no objection to the action as proposed.

ERP No. F-AFS-L65379-ID Little Weiser Landscape Vegetation Management Project, Implementation, Council Ranger District, Payette National Forest, Adams County, ID.

Summary: The final EIS adequately responded to EPA's comments on the draft EIS and EPA has no objection to the action as proposed.

ERP No. F-AFS-L65386-ID Little Blacktail Ecosystem Restoration Project, Health and Productivity of Terrestrial and Aquatic Habitats Improvement, Implementation, Idaho Panhandle National Forests, Sandpoint Ranger District, Bonner County, ID.

Summary: The final EIS responded to EPA's previous comments on the draft EIS and EPA has no objection to the action as proposed.

ERP No. F-DOE-L08057-OR Umatilla Generating Project, Gas-Fired Combined Cycle Electric Power Generation Plant Construction and Operation with a Nominal Generation Capacity of 550 megawatts (MW) for Connection to the Regional Grid at McNary Substation, Umatilla County, AZ.

Summary: No formal comment letter was sent to the preparing agency.

ERP No. F-NOA-L91016-AK American Fisheries Act Amendments 61/61/13/8: Amendment 61 Groundfish Fishery of the Bering Sea and Aleutian Islands Area; Amendment 61 Groundfish of the Gulf of Alaska; Amendment 13 Bering Sea and Aleutian Islands King and Tanner Crab, and Amendment 8 to the Scallop Fishery off Alaska, Fishery Management Plans, AK.

Summary: EPA agrees with the conclusion that the weekly pollock landings and fish waste discharges by inshore processors during summer months raises environmental concerns about impacts to water quality. EPA recommends that the ROD commit to monitoring and follow-up mitigation measures to ensure that significant degradation of water quality and habitat do not result from the amendment.

ERP No. FE-NOA-L64015-AK Steller Sea Lion Protection Measures in the Alaska Groundfish Fisheries, Fishery Management Plans for Groundfish of the Gulf of Alaska and the Groundfish Fishery of the Bering Sea and Aleutian Islands Area, AK.

Summary: EPA continues to have environmental concerns about the population viability of Steller sea lions.

Dated: March 26, 2002.
B. Katherine Biggs,
Associate Director, NEPA Compliance, Office of Federal Activities.

[FR Doc. 02-7648 Filed 3-28-02; 8:45 am]

BILLING CODE 6560-50-U